DEPARTMENT OF JUSTICE

Immigration and Naturalization Service

[INS No. 2066-00; AG Order No. 2305-2000]

RIN 1115-AE26

Termination of the Province of Kosovo in the Republic of Serbia in the State of the Federal Republic of Yugoslavia (Serbia-Montenegro) Under the Temporary Protected Status Program

AGENCY: Immigration and Naturalization Service, Justice.

ACTION: Notice.

SUMMARY: The Attorney General's designation of the Province of Kosovo in the Republic of Serbia in the State of the Federal Republic of Yugoslavia (Serbia-Montenegro) (the “Kosovo Province”) under the Temporary Protected Status (TPS) program expires on June 8, 2000. After reviewing county conditions and consulting with the appropriate Government agencies, the Attorney General has determined that conditions in the Kosovo Province no longer qualify for TPS designation. However, because this determination was not made at least 60 days before the expiration date, the designation of the Kosovo Province for TPS is automatically extended for a period of 6 months, until December 8, 2000. The termination of the TPS designation of the Kosovo Province will therefore take effect on December 8, 2000. After that date, aliens who are nationals of the Kosovo Province (and aliens having no nationality who last habitually resided in the Kosovo Province) who have had TPS under the Kosovo Province designation will no longer possess such status. This notice contains information regarding the 6-month extension and subsequent termination of the TPS designation for the Kosovo Province.

DATES: The termination of the TPS designation for the Kosovo Province is extended until December 8, 2000. On December 8, 2000, the TPS designation for the Kosovo Province will be terminated.

FOR FURTHER INFORMATION CONTACT: Michael Valverde, Adjudications Officer, Office of Adjudications, Residence and Status Branch, Immigration and Naturalization Service, Room 3040, 425 I Street, NW., Washington, DC 20536, telephone (202) 514-4754.

SUPPLEMENTARY INFORMATION:

What Is the Statutory Authority for the Designation and Termination of TPS?

Under section 244 of the Immigration and Nationality Act (Act), 8 U.S.C. 1254a, the Attorney General is authorized to designate a foreign state (or past of a state) for TPS. The Attorney General may then grant TPS to eligible nationals of that foreign state (or aliens having no nationality who last habitually resided in that state). Section 244(b)(3)(A) of the Act requires the Attorney General to review, at least 60 days before the end of the period of TPS designation, the conditions in a foreign state designated under section 244(b)(1) of the Act. 8 U.S.C. 1254a(b)(3)(A).

Section 244(b)(3) of the Act further requires the Attorney General to determine whether the conditions for such a designation continue to be met and to terminate the state's designation when the Attorney General determines the conditions are no longer met. 8 U.S.C. 1254a(b)(3)(B). The Attorney General must then publish a notice of termination in the Federal Register. If the Attorney General fails to make the determination required by section 244(b)(3)(A) of the Act at least 60 days before the end of the period of designation, then the designation is automatically extended for an additional period of 6 months. 8 U.S.C. 1254a(b)(3)(C).

Why Did the Attorney General Decide To Terminate TPS for the Kosovo Province?

On June 8, 1999, the Attorney General published a notice redesignating the Kosovo Province for TPS for a period of 1 year, based upon conditions in the Kosovo Province at that time. 64 FR 30542 (June 8, 1999). That TPS designation is scheduled to expire on June 8, 2000.

Based upon a more recent review of conditions within the Kosovo Province by the Departments of Justice and State, the Attorney General finds that conditions in the Kosovo Province no longer support a TPS designation. A Department of State memorandum concerning the Kosovo Province states that “[a]lthough conditions remain difficult with bursts of ethnically-motivated violence, the situation in Kosovo cannot now be classified as ′ongoing internal conflict.′ Outright fighting ended in June 1999 with the withdrawal of the Yugoslav army.” The memorandum also states that “[t]he United Nations High Commissioner for Refugees has determined that Kosovar Albanians, who constitute the majority of the Kosovo population, can now return to Kosovo in safety to all areas of Kosovo except the Serb-dominated Mitrovica and certain areas in Eastern Kosovo. In addition, the vast majority of those who fled Kosovo during the conflict returned during the summer and fall of 1999, shortly after the end of the international military presence (KFOR).”

Based on these findings, the Attorney General has decided to terminate the designation of the Kosovo Province for TPS. However, because the Attorney General did not make this determination at least 60 days before the end of the current designation, the designation is automatically extended pursuant to section 244(b)(3)(A) of the Act for an additional 6 months. The termination will therefore take effect at the end of the 6-month extension.

If I Currently Have TPS, How Do I Register for the 6-Month Extension?

Persons previously granted TPS under the Kosovo Province program may apply for the 6-month extension by filing the Form I-821, Application for Temporary Protected Status, without the fee, during the re-registration period that begins May 23, 2000 and ends June 22, 2000. Additionally, those applying must file the Form I-765, Application for Employment Authorization. See the chart below to determine whether or not you must submit the $100 filing fee with the Form I-765.

If | Then
You are applying for employment authorization through December 8, 2000 | You must complete and file the Form I-765, Application for Employment Authorization, with the $100 fee.
You already have employment authorization or do not require employment authorization | You must complete and file the Form I-765 with no fee.
You are applying for employment authorization and are requesting a fee waiver | You must complete and file the Form I-765 and a fee waiver request and requisite affidavit (and any other information) in accordance with 8 CFR 244.20.

To re-register for TPS, you must also include two identification photographs (1½″ x 1½″).

Is Late Initial Registration Possible?

Yes, in addition to timely re-registration, late initial registration is possible for some persons from the Kosovo Province under 8 CFR 244.2(f)(2).

What Are the Requirements for Late Initial Registration?

To apply for late initial registration an applicant must:

• Be a national of the Kosovo Province (or a person who has no nationality and who last habitually resided in the Kosovo Province);

• Have been continuously physically present in the United States since June 8, 1999;

• Have continuously resided in the United States since June 8, 1999; and

• Be admissible as an immigrant, except as otherwise provided under section 244(c)(2)(A) of the Act.

• Additionally, the applicant for late initial registration must be able to demonstrate that, during the initial registration period, he or she:

• Was a nonimmigrant, or was granted voluntary departure or any relief from removal;

• Had an application for change of status, adjustment of status, or any relief from removal pending or subject to further review; or

• Was a parolee or had a pending request for reparole; or

• That the applicant is currently the spouse or child of an alien currently eligible to be a TPS registrant.

An applicant for late initial registration must register no later than 60 days from the expiration or termination of the qualifying condition. 8 CFR 244.2(g).

Where Should I File for an Extension of TPS?

You may register for the extension of TPS by submitting an application and accompanying materials to the Immigration and Naturalization Service's local office that has jurisdiction over your place of residence.

When Can I File for an Extension of TPS?

The 30-day re-registration period begins May 23, 2000, and will remain in effect until June 22, 2000.

What Can I Do If I Feel That My Return to the Kosovo Province Is Unsafe?

There may be other avenues of immigration relief available to aliens who are nationals of the Kosovo Province (and aliens having no nationality who last habitually resided in the Kosovo Province) in the United States who believe that their particular circumstances make return to the Kosovo Province unsafe. Such avenues may include, but are not limited to, asylum or withholding of removal.

How Does the Termination of TPS Affect Former TPS Beneficiaries?

After the designation of the Kosovo Province for TPS is terminated on December 8, 2000, those aliens who are nationals of the Kosovo Province (and aliens having no nationality who last habitually resided in the Kosovo Province) will revert back to the immigration status they had prior to TPS, unless they have been granted another immigration status. The stay of removal and eligibility for employment authorization due to the designation of the Kosovo Province under the TPS program will no longer be available. However, the termination of the TPS designation for the Kosovo Province will not affect any pending applications for other forms of immigration relief.

Those persons who received TPS under the Kosovo Province designation may being accruing periods of unlawful presence as of December 8, 2000, if they have not been granted any other immigration benefit or have no application for such a benefit pending. Aliens who accrue certain periods of unlawful presence in the United States may be barred from admission to the United States under section 212(a)(9)(B)(i) of the Act. See 8 U.S.C. 1182(a)(9)(B)(i).

Notice of 6-Month Extension and Termination of Designation of Kosovo Province Under the TPS Program

By the authority vested in me as Attorney General under section 244(b)(3) of the Act, I have consulted with the appropriate agencies of Government concerning conflict and security conditions in the Kosovo Province. 8 U.S.C. 1254a(b)(3). Based on these consultations, I have determined that the Kosovo Province no longer meets the conditions for designation of TPS under section 244(b)(1) of the Act. See 8 U.S.C. 1254a(b)(1).

Since June 10, 1999, when Serb forces withdrew from northern Kosovo and the North Atlantic Treaty Organization suspended its airstrikes, the Kosovo Province has been relatively peaceful, with the exception of occasional isolated outbreaks of violence. An international police force has assumed law enforcement duties and began recruiting Kosovars for local police forces.

I also understand that, although the Kosovo Province is still rebuilding from the war, the return of persons to the Kosovo Province would not result in a danger to their personal safety. The United Nations (UN) is planning to phase out its relief efforts and begin concentrating on rebuilding housing by mid-year. The UN also plans to end its emergency shelter program. Since summer 1999, nearly 90 percent of the over 850,000 ethnic Albanians who fled the Kosovo Province have returned, including over 3,000 from the United States. In view of the recommendations of the Departments of Justice and State for termination, I terminate the designation of the Kosovo Province under the TPS program. However, because I did not make this determination at least 60 days before the expiration of the designation, the designation is automatically extended for 6 months, until December 8, 2000.

Accordingly, I order as follows:

(1) The designation of the Kosovo Province for TPS under section 244(b)(1) of the Act is terminated effective December 8, 2000.

(2) I estimate that there are no more than 1,000 nationals of the Kosovo Province (and aliens having no nationality who last habitually resided in the Kosovo Province) who have been previously granted TPS.

(3) Information concerning the termination of the TPS program for nationals of the Kosovo Province (and aliens having no nationality who last habitually resided in the Kosovo Province) will be available at local Immigration and Naturalization Service (INS) offices upon publication of this notice or at the INS website, http://www.ins.usdoj.gov.

Dated: May 16, 2000.
Janet Reno,
Attorney General.

[FR Doc. 00-12856 Filed 5-22-00; 8:45 am]

BILLING CODE 4410-10-M